DEPARTMENT OF COMMERCE

International Trade Administration

(A-588-804, A-559-801)

Extension of Time Limits for Preliminary Results and Final Results of the Full Sunset Review of the Antidumping Duty Orders on Ball Bearings and Parts Thereof from Japan and Singapore

AGENCY: Import Administration, International Trade Administration, U.S. Department of Commerce.

EFFECTIVE DATE: September 21, 2005.

FOR FURTHER INFORMATION CONTACT: Zev Primor at 202-482-4114 or Fred W. Aziz at 202-482-4023, Import Administration, International Trade Administration, U.S. Department of Commerce, 14th Street & Constitution Avenue, NW, Washington, DC 20230.

Extension of Time Limits

In accordance with section 751(c)(5)(B) of the Tariff Act of 1930, as amended (the Act), the U.S. Department of Commerce (the Department) may extend the period of time for making its determination by not more than 90 days, if it determines that the sunset review is extraordinarily complicated. As set forth in 751(c)(5)(C)(v) of the Act, the Department may treat a sunset review as extraordinarily complicated if it is a review of a transition order. The sunset reviews subject to this notice are transition orders. Therefore, the Department has determined, pursuant to section 751(c)(5)(C)(v) of the Act, that these sunset reviews are extraordinarily complicated and require additional time for the Department to complete its analysis.

The Department's preliminary results of these full sunset reviews were scheduled for September 19, 2005, and the final results were scheduled for January 27, 2006. They are now being extended until December 19, 2005, and April 27, 2006, respectively. These dates are 90 days from the original scheduled dates of the preliminary and final results of these sunset reviews.

This notice is issued in accordance with sections 751(c)(5)(B) and (C)(v) of the Act.

Dated: September 15, 2005.
Barbara E. Tillman,
Acting Deputy Assistant Secretary for Import Administration.

[FR Doc. 05-18852 Filed 9-20-05; 8:45 am]

(BILLING CODE: 3510-DS-SP)